DEPARTMENT OF THE INTERIOR

Fish and Wildlife Service

[Docket No. FWS-R8-ES-2021-0120; FXES11130800000-212-FF08ENVS00]

Habitat Conservation Plan for Warm Springs Natural Area and Hidden Valley Property, Clark County, Nevada; Receipt of Incidental Take Permit Application, Draft Low-Effect Habitat Conservation Plan, and Draft Environmental Compliance Documentation

AGENCY: Fish and Wildlife Service, Interior.

ACTION: Notice of availability; request for comment.

SUMMARY: We, the U.S. Fish and Wildlife Service (Service), announce the receipt and availability of an application for an incidental take permit (ITP) under the Endangered Species Act (ESA) and an associated draft low-effect habitat conservation plan (HCP). Additionally, consistent with the requirements of the National Environmental Policy Act (NEPA), we have prepared a draft low-effect screening form and environmental action statement supporting our preliminary determination that the proposed permit action qualifies for a categorical exclusion under NEPA. The Southern Nevada Water Authority has applied for an ITP under the ESA for the HCP for Warm Springs Natural Area and Hidden Valley Property in Clark County, Nevada. The ITP would authorize the take of seven species incidental to the development, construction and operation of the project. We invite the public and local, State, Tribal, and Federal agencies to comment on the permit application, proposed low-effect HCP, and NEPA categorical exclusion determination documentation. Before issuing the requested ITP, we will take into consideration any information that we receive during the public comment period.

DATES: Written comments must be received on or before February 22, 2022.

ADDRESSES:

Obtaining Documents: The documents announced by this notice, as well as any comments and other materials that we receive, will be available for public inspection in Docket No. FWS-R8-ES-2021-0120 at https://www.regulations.gov.

Submitting Comments: To send written comments, please use one of the following methods and identify to which document your comments are in reference—the draft HCP or NEPA compliance documentation.

• Internet: Submit comments at https://www.regulations.gov under Docket No. FWS-R8-ES-2021-0120.

• U.S. Mail: Public Comments Processing, Attn: Docket No. FWS-R8-ES-2021-0120; U.S. Fish and Wildlife Service Headquarters, MS: PRB/3W; 5275 Leesburg Pike; Falls Church, VA 22041-3803.

For more information, see Public Comments and Public Availability of Comments under SUPPLEMENTARY INFORMATION.

FOR FURTHER INFORMATION CONTACT: Glen W. Knowles, Field Supervisor, Southern Nevada Fish and Wildlife Office, by phone at 702-515-5244 or via the Federal Relay Service at 800-877-8339.

SUPPLEMENTARY INFORMATION: We, the Service, announce the receipt of a permit application from the Southern Nevada Water Authority (applicant), for a 15-year ITP under section 10(a)(1)(B) of the ESA, as amended (16 U.S.C. 1531 et seq.). Application for the permit requires the preparation of an HCP with measures to avoid, minimize, and mitigate the impacts of incidental take of endangered, threatened, or candidate species to the maximum extent practicable. The applicant prepared the draft low-effect HCP for Warm Springs Natural Area and Hidden Valley Property pursuant to section 10(a)(1)(B) of the ESA.

The Service's consideration of issuing an ITP also requires evaluation of its potential impacts on the natural and human environment in accordance with NEPA (42 U.S.C. 4321 et seq.). The Service has prepared a low-effect screening form and environmental action statement (categorical exclusion, or CatEx documentation), pursuant to NEPA and its implementing regulations in the Code of Federal Regulations (CFR) at 40 CFR 1501.4, to preliminarily determine if the proposed HCP qualifies as a low-effect HCP, eligible for a categorical exclusion.

Background

Except for permitted exceptions, section 9 of the ESA (16 U.S.C. 1538 et seq.) prohibits the taking of fish and wildlife species listed as endangered under section 4 of the ESA; by regulation, take of certain species listed as threatened is also prohibited (16 U.S.C. 1533(d); 50 CFR 17.31). Regulations governing the permitted exception for allowable incidental take of endangered and threatened species are at 50 CFR 17.22 and 17.32. For more about the Federal habitat conservation HCP program, go to: https://www.fws.gov/endangered/esa-library/pdf/hcp.pdf.

National Environmental Policy Act Compliance

The proposed permit issuance triggers the need for compliance with the NEPA. The draft CatEx documentation was prepared to determine if issuance of an ITP, based on the draft HCP, would only have individually or cumulatively minor or negligible effects on the species covered in the HCP, as well as on other environmental values or resources, and would therefore qualify as a low-effect HCP not subject to further environmental analysis under NEPA.

Proposed Action

Under the proposed action, the Service would issue a permit to the applicant for a period of 15 years for covered activities (described below) related to the management and restoration of the Warm Springs Natural Area (WSNA) and the Hidden Valley Property (HVP). Covered species include the federally endangered Moapa dace (Moapa coriacea), federally endangered Yuma Ridgway's rail (Rallus obsoletus yumanensis), federally endangered southwestern willow flycatcher (Empidonax traillii extimus), federally threatened yellow-billed cuckoo (Coccyzus americanus), a candidate for listing under the ESA, the monarch butterfly (Danaus plexippus), and two unlisted species, the Moapa White River springfish (Crenichthys baileyi moapae) and the Virgin River chub (Gila seminuda).

Habitat Conservation Plan Area

The geographic scope of this draft HCP area encompasses 7.2 stream miles (6.1 miles at WSNA and 1.1 miles at HVP) and 1,401 acres (1,250 at WSNA and 151 at HVP) Clark County, Nevada.

Covered Activities

The proposed section 10(a) permit would allow incidental take of four covered species, one candidate for listing, from covered activities in the proposed HCP area. Two unlisted species would also be identified and addressed in the permit should they ever become listed. The applicant is requesting incidental take authorization for covered activities pertaining to the management and restoration of the WSNA and HVP, including but not limited to reconnection of channels, streams, and tributaries, bank and channel stabilization, beaver management, fish passage improvements, invasive aquatic species management, invasive plant management, clearing vegetation from streams, installation of Moapa dace habitat structures, Moapa dace snorkel surveys, fire and fuels management, pumping water for irrigation, dust control and fire suppression, operation of vehicles and maintenance equipment, general public access, property tours, field trips and school groups, neighbor outreach, volunteer planting events, and research. The applicant has also proposed spring pool restoration and enhancement, construction and enhancement of wetlands, restoration and enhancement of riparian habitat, and restoration and enhancement of mesquite and upland habitat. For each of the covered activities, the applicant has outlined best management practices in the HCP to minimize and mitigate for direct impacts to covered species. The proposed actions will result in temporary loss of habitat at the WSNA and HVP in Clark County, Nevada.

Public Comments

We request data, comments, new information, or suggestions from the public, other concerned governmental agencies, the scientific community, Tribes, industry, or any other interested party on the draft HCP and associated documents. If you wish to comment, you may submit comments by either of the methods in ADDRESSES.

Public Availability of Comments

Any comments we receive will become part of the decision record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Next Steps

Issuance of a permit is a Federal proposed action subject to compliance with NEPA and section 7 of the ESA. We will evaluate the permit application, the HCP, associated documents, and any public comments we receive during the comment period to determine whether the application meets the requirements of section 10(a) of the ESA. If we determine that those requirements are met, we will conduct an intra-Service consultation under section 7 of the ESA for the Federal action and for the potential issuance of an ITP. If the intra-Service consultation confirms that issuance of the permit will not jeopardize the continued existence of any endangered or threatened species, or destroy or adversely modify critical habitat, we will issue a permit to the applicant for the incidental take of the covered species.

Authority

We provide this notice under section 10(c) of the ESA (16 U.S.C. 1539(c) and its implementing regulations (50 CFR 17.32) and NEPA (42 U.S.C. 4371 et seq.) and NEPA implementing regulations (40 CFR 1501.4).

Glen W. Knowles,
Field Supervisor, Southern Nevada Fish and Wildlife Office, U.S. Fish and Wildlife Service, Las Vegas, Nevada.

[FR Doc. 2022-01145 Filed 1-20-22; 8:45 am]

BILLING CODE 4333-15-P